DEPARTMENT OF TRANSPORTATION

Federal Motor Carrier Safety Administration

[Docket No. FMCSA 2015-0461]

Agency Information Collection Activities; Emergency Revision of a Currently-Approved Information Collection: Licensing Applications for Motor Carrier Operating Authority

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval. The FMCSA seeks emergency approval to revise an ICR titled, “Licensing Applications for Motor Carrier Operating Authority,” that is used by for-hire motor carriers of regulated commodities, motor passenger carriers, freight forwarders, property brokers, and certain Mexico-domiciled motor carriers to register their operations with the FMCSA.

DATES: Please send your comments to this notice by January 29, 2016. OMB must receive your comments by this date to act quickly on the ICR.

ADDRESSES: All comments should reference Federal Docket Management System (FDMS) Docket Number FMCSA-2015-0461. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, faxed to (202) 395-6974, or mailed to the Office of Information and Regulatory Affairs, Office of Management and Budget, Docket Library, Room 10102, 725 17th Street NW., Washington, DC 20503.

FOR FURTHER INFORMATION CONTACT: Mr. Jeff Secrist, Office of Registration and Safety Information, Department of Transportation, Federal Motor Carrier Safety Administration, West Building, 6th Floor, 1200 New Jersey Avenue SE., Washington, DC 20590-0001. Telephone: 202-385-2367; email jeff.secrist@dot.gov. Office hours are from 9:00 a.m. to 5:00 p.m., Monday through Friday, except Federal Holidays.

SUPPLEMENTARY INFORMATION: Title: Licensing Applications for Motor Carrier Operating Authority.

OMB Control Number: 2126-0016.

Type of Request: Revision of a currently-approved information collection.

Respondents: Motor carriers, motor passenger carriers, freight forwarders, brokers, and certain Mexico-domiciled motor carriers.

Estimated Number of Respondents: 12,413.

Estimated Time per Response: 4 hours to complete Form OP-1 (MX); and 2 hours to complete Forms OP-1, OP-1(FF), OP-1(P) and OP-1(NNA).

Expiration Date: October 31, 2018.

Frequency of Response: Other (as needed).

Estimated Total Annual Burden: 24,853 hours [74,464 hours for Year 1 + 48 hours for Year 2 + 48 hours for Year 3 = 74,560 hours/3 year approval for ICR = 24,853 estimated average number of annual burden hours].

Background: The FMCSA is authorized to register certain for-hire Mexico-domiciled long-haul motor carriers of regulated commodities under the provisions of 49 U.S.C. 13902 and the North American Free Trade Agreement (NAFTA) motor carrier access provision. The Form OP-1(MX) is used by FMCSA to register those Mexico-domiciled motor carriers. It requests information on the applicant's identity, location, familiarity with safety requirements, and type of proposed operations.

FMCSA published a Final Rule titled, “Unified Registration System,” (78 FR 52608), dated August 23, 2013, that would incorporate all registration form requirements included in this ICR, except the Form OP-1(MX), into the Form MCSA-1 in the OMB Control Number 2126-0051, “FMCSA Registration/Updates,” ICR effective October 23, 2015. The Form OP-1(MX) was excluded from the Form MCSA-1 because its information collection requirements are beyond the scope of the Unified Registration System Final Rule. On October 5, 2015, FMCSA obtained OMB approval to eliminate all of the registration forms except the Form OP-1(MX) from this ICR.

This emergency ICR revision request is due to a Final Rule titled “Unified Registration System,” (80 FR 63695) dated October 21, 2015, which changed the effective and compliance dates of the 2013 Final Rule from October 23, 2015, to September 30, 2016. This change in the effective and compliance dates from the 2013 Final Rule is required to allow FMCSA additional time to complete the information technology (IT) systems work required to fully implement that rule. As a result, FMCSA seeks emergency approval to continue using the Licensing Applications for Motor Carrier Operating Authority Forms (OP-1(NNA), OP-1(FF), OP-1, and OP-1(P)) through September 30, 2016, as these forms will be needed to support registration requirements.

Public Comments Invited: FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information. The agency will summarize or include your comments in the request for OMB's clearance of this information collection.

Issued under the authority delegated in 49 CFR 1.87 on: December 22, 2015.
G. Kelly Regal,
Associate Administrator, Office of Research and Information Technology.

[FR Doc. 2015-32865 Filed 12-29-15; 8:45 am]

BILLING CODE 4910-EX-P